DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

[Docket No. FRA-2000-7930]

Applicants:

Lake Superior and Ishpeming Railroad Company, Mr. John F. Marshall, President and General Manager, 105 East Washington Street, Marquette, Michigan 49855-4385;

Wisconsin Central Limited, and Sault Ste. Marie Bridge Company, Mr. J.R. McCarren, President and Chief Executive Officer, P.O. Box 5062, Rosemont, Illinois 60017-5062.

The Lake Superior and Ishpeming Railroad Company, Wisconsin Central Limited (WC), and Sault Ste. Marie Bridge Company (SSAM) jointly seek approval of the proposed discontinuance and removal of the traffic control system (CTC), on the single main track and siding, between Diamond Jct., WC milepost 162.9 to and including Soo Jct., WC milepost 170.9, and West Wye, WC milepost 164.8 to and including South Wye, SSAM milepost 176.2, near Ishpeming, Michigan. The proposed changes include the following:

1. Retire all CTC control points and associated appurtenances;

2. Install fixed approach signals for Eagle Mills Jct.;

3. Retire power-operated switches, electric locks, and associated signals at South Wye, West Wye, East Wye, Diamond Jct., Negaunee, Landing Jct., and Soo Jct.; and

4. Abandon the track from Diamond Jct. to Marquette, and the connection between South Wye and East Wye.

The reasons given for the proposed changes are the reduction in train traffic, closure of the ore mine, and the abandonment of tracks, no longer warrants the traffic control system.

Any interested party desiring to protest the granting of an application shall set forth specifically the grounds upon which the protest is made, and contain a concise statement of the interest of the Protestant in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, S.W., Washington, D.C. 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, D.C. on October 12, 2000.
Grady C. Cothen, Jr.,
Deputy Associate Administrator for Safety Standards and Program Development.

[FR Doc. 00-26813 Filed 10-18-00; 8:45 am]

BILLING CODE 4910-06-P